DEPARTMENT OF DEFENSE

Defense Acquisition Regulations System

48 CFR Parts 212 and 252

[Docket DARS-2021-0001]

Defense Federal Acquisition Regulation Supplement: Technical Amendments

AGENCY: Defense Acquisition Regulations System, Department of Defense (DoD).

ACTION: Final rule.

SUMMARY: DoD is making technical amendments to the Defense Federal Acquisition Regulation Supplement (DFARS) to provide needed editorial changes.

DATES: Effective January 15, 2021.

FOR FURTHER INFORMATION CONTACT: Ms. Jennifer D. Johnson, Defense Acquisition Regulations System, OUSD(A&S)DPC(DARS), Room 3B938, 3060 Defense Pentagon, Washington, DC 20301-3060. Telephone 571-372-6100.

SUPPLEMENTARY INFORMATION: This final rule amends the DFARS as follows:

1. Corrects the numbering of paragraphs at section 212.301(f)(ii). On December 31, 2019, DoD published in the Federal Register at 84 FR 72231 an interim rule titled “Covered Defense Telecommunications Equipment or Services (DFARS Case 2018-D022)”. The rule added paragraphs (f)(ii)(H), (I), and (J); however the correct paragraph numbers should have reflected (f)(ii)(G), (H), and (I). A prior change to this section on October 31, 2019, published at 84 FR 58332, had redesignated paragraphs (f)(ii)(F) and (G) as paragraphs (f)(ii)(E) and (F); however, this redesignation was not reflected in the paragraph numbering in the December 19, 2019, publication. This sequence of events resulted in the current electronic Code of Federal Regulations (eCFR) not reflecting a paragraph (f)(ii)(G) in the numbering sequence, which this amendment corrects.

2. Corrects DFARS clause 252.244-7000 in paragraph (d) by removing “(c)” and adding “(d)” in its place. On September 29, 2020, DoD published in the Federal Register at 85 FR 60918 a final rule titled “Treatment of Certain Items as Commercial Items (DFARS Case 2019-D029)” that included this change; however, the revision is not reflected in the eCFR. This amendment corrects the eCFR.

List of Subjects in 48 CFR Parts 212 and 252

Government procurement.

Jennifer D. Johnson,
Regulatory Control Officer, Defense Acquisition Regulations System.

Therefore, 48 CFR parts 212 and 252 are amended as follows:

1. The authority citation for 48 CFR parts 212 and 252 continues to read as follows:

Authority: 41 U.S.C. 1303 and 48 CFR chapter 1.

PART 212—ACQUISITION OF COMMERCIAL ITEMS

212.301 [Amended]

2. Amend section 212.301 by redesignating paragraphs (f)(ii)(H) through (M) as paragraphs (f)(ii)(G) through (L).

PART 252—SOLICITATION PROVISIONS AND CONTRACT CLAUSES

3. Amend section 252.244-7000 by—

a. Removing the clause date of “(OCT 2020)” and adding “(JAN 2021)” in its place; and

b. Revising paragraph (d).

The revision reads as follows:

252.244-7000 Subcontracts for Commercial Items.

* * * * *

(d) The Contractor shall include the terms of this clause, including this paragraph (d), in subcontracts awarded under this contract, including subcontracts for the acquisition of commercial items.

* * * * *

[FR Doc. 2021-00616 Filed 1-14-21; 8:45 am]

BILLING CODE 5001-06-P